DEPARTMENT OF AGRICULTURE

Forest Service

Mendocino Resource Advisory Committee

AGENCY: Forest Service, USDA.

ACTION: Notice of meeting.

SUMMARY: The Mendocino County Resource Advisory Committee will meet February 17, 2006, (RAC) in Willits, California. Agenda items to be covered include:

(1) Approval of minutes;

(2) Public Comment;

(3) Sub-Committees;

(4) Matters before the group, discussion only;

a. announcements and recognition;

(5) Discussion/approval of projects; and

(6) Next agenda items and adjournment.

DATES: The meeting will be held on February 17, 2006, from 9 a.m. to 12 noon.

ADDRESSES: The meeting will be held at the Mendocino County Museum, located at 400 E. Commercial St., Willits, California.

FOR FURTHER INFORMATION CONTACT: Roberta Hurt, Committee Coordinator, USDA, Mendocino National Forest, Covelo Ranger District, 78150 Covelo Road, Covelo, CA 95428. (707) 983-8503; E-mail rhurt@fs.fed.us.

SUPPLEMENTARY INFORMATION: The meeting is open to the public. Persons who wish to bring matters to the attention of the Committee may file written statements with the Committee staff by February 14, 2006. Public comment will have the opportunity to address the committee at the meeting.

Dated: January 24, 2006.
Blaine Baker,
Designated Federal Official.

[FR Doc. 06-879 Filed 1-30-06; 8:45 am]

BILLING CODE 3410-11-M